DEPARTMENT OF HEALTH AND HUMAN SERVICES

Health Resources and Services Administration

Cooperative Agreement for Poison Prevention Education

AGENCY: Health Resources and Services Administration (HRSA), HHS.

ACTION: Notice of Single Source Award.

SUMMARY: HRSA will be forming a partnership with the Home Safety Council (HSC) to collaborate on reaching America's low literacy population. Through this project, easy to read and comprehend poison prevention material will be developed and distributed to the public, poison centers, safety and injury prevention professionals, health educators, and first responders.

FOR FURTHER INFORMATION CONTACT: Shkeda Johnson, Senior Public Health Analyst, Healthcare Systems Bureau, Division of Healthcare Preparedness, Room 13-103, 5600 Fishers Lane, Rockville, MD 20857. Telephone: 301-443-1210 Email: sjohnson@hrsa.gov.

SUPPLEMENTARY INFORMATION: Intended Recipient of the Award: Home Safety Council.

Amount of the Award: $100,000.

Authority: Section 1271 et seq. of the Public Health Service Act, 42 U.S.C. Section 300d-71 et seq. as amended by the Poison Center Stabilization and Enhancement Grant Program.

Project Period: The period of the award will begin on September 1, 2006, through August 31, 2007.

Justification for the Exception to Competition

This project will be implemented through a single source cooperative agreement because the HSC is uniquely positioned to immediately undertake and complete the activities within one year. The HSC has existing organizational knowledge and experience in developing materials for the low literacy population through its Home Safety Literacy Project, which this project will be a component; the HSC has an existing relationship with key stakeholders in place for reaching this vulnerable population; and the HSC project director has extensive expertise in poison prevention education.

Dated: July 3, 2006.
Elizabeth M. Duke,
Administrator.

[FR Doc. E6-12178 Filed 7-28-06; 8:45 am]

BILLING CODE 4165-15-P